DEPARTMENT OF THE INTERIOR

Fish and Wildlife Service

RIN 1018-AI59

Tribal Landowner Incentive Program (T-LIP) Implementation Guidelines for Fiscal Year (FY) 2002

AGENCY: Fish and Wildlife Service, Interior.

ACTION: Notice; request for comments.

SUMMARY: The Department of the Interior Related Agencies Appropriations Act of 2002 allocated $40 million from the Land and Water Conservation Fund for conservation grants to States, the District of Columbia, Puerto Rico, Guam, the United States Virgin Islands, the Northern Mariana Islands, American Samoa, States and Tribes under a Landowner Incentive Program. The U.S. Fish and Wildlife Service (Service) herein proposes the guidance for the $4 million tribal component of the Landowner Incentive Program.

DATES: Interested parties should submit comments to the addresses under the heading ADDRESSES by January 27, 2003. Comments regarding information collection requirements should note that the Office of Management and Budget has up to 60 days to approve or disapprove information collection submissions, but may respond after 30 days. Therefore, an early comment response would be advised.

ADDRESSES: Comments to this proposed implementation guidance should be sent to: Robyn Thorson, Assistant Director—External Affairs, U.S. Fish and Wildlife Service, 1849 C Street, NW., Mail Stop 3012 MIB, Washington, DC 20240. Comments may be telefaxed as well to: 202/501-3524. For information collection requirements under the Paperwork Reduction Act, send comments to: Interior Desk Officer, Attn: 1018-0109, Office of Management and Budget, 725 17th Street, NW., Washington, DC 20503, and send a copy of these paperwork burden comments to U.S. Fish and Wildlife Service, Information Collection Clearance Officer, 4401 North Fairfax Drive, Room 224, Arlington, VA 22203.

The Service will make all comments received in response to this Notice available for public review during regular business hours at the Office of the Native American Liaison. If a respondent wishes his or her name or address to be withheld from public view, we will honor these wishes to the extent allowable by law, if the respondent makes this request known at the time of comment submission.

FOR FURTHER INFORMATION CONTACT: Patrick Durham, Office of the Native American Liaison, U.S. Fish and Wildlife Service, 1849 C Street, Mail Stop 3012 MIB, Washington, DC 20240, 202/208-4133.

SUPPLEMENTARY INFORMATION:

I. Background

The Department of the Interior and Related Agencies Appropriations Act of 2002 allocated $40 million from the Land and Water Conservation Fund for conservation grants to States, the District of Columbia, Puerto Rico, Guam, the United States Virgin Islands, the Northern Mariana Islands, American Samoa, States and Tribes under the Landowner Incentive Program. The U.S. Fish and Wildlife Service (Service) herein proposes the implementation guidance for the $4 million tribal component of the Landowner Incentive Program.

In recent years, natural resource managers have increasingly recognized that private lands play a pivotal role in linking or providing important habitats for fish, wildlife, and plant species. To protect and enhance these habitats through incentives for private landowners, Congress appropriated $40 million for the Service to administer a new Landowner Incentive Program (LIP) for States and tribes. The Service will award grants to States for actions and activities that protect and restore habitats that benefit Federally listed, proposed or candidate species, or other at-risk species on private lands. A primary objective of LIP is to establish, or supplement existing, landowner incentive programs that provide technical and financial assistance, including habitat protection and restoration, to private landowners for the protection and management of habitat to benefit Federally listed, proposed, or candidate species, or other at-risk species on private lands as stated in the appropriations language. LIP complements other Federal private lands conservation programs that focus on the conservation of habitat.

The Service is providing guidance to the public and, particularly, to federally-recognized tribes, in the administration of this $4 million Tribal Landowner Incentive Program (T-LIP). T-LIP will provide conservation monies to federally recognized tribes for actions and activities that protect and restore habitats that benefit Federally listed, proposed, or candidate species, or other at-risk species on tribal lands. T-LIP was created because of the unique relationship between the Federal government and tribes and because tribal lands are not private lands and would not be eligible for funding under a State-administered LIP with a private lands grant distribution system. Because the tribes directly administer the funds rather than further distribute them to individual landowners, the criteria used in evaluating program proposals differ to some extent from those used in the LIP. The results of both the LIP and T-LIP would be similar in effect as both encourage voluntary conservation of natural resources. A series of questions and answers follow that describe the proposed guidelines in some detail.

The Service is proposing this guidance with the intent of gathering input from the affected communities. Whereas the Service is seeking comments on all aspects of T-LIP, several items are of particular interest. The Service wishes to determine whether it should limit funding to any one tribe to 5 percent (%) or some other amount of the total available funding. Secondly, the Service wishes to confirm whether the proposed ranking criteria appropriately addresses the intent of current law establishing the program. Thirdly, we seek comment whether the proposed 25 percent matching contribution is the appropriate matching amount. Finally, public opinion will also be helpful in determining whether or not and to what level tribal organizations may participate in T-LIP.

II. Proposed Implementation Guidelines

A. Eligibility

1. Who May Participate in the T-LIP?

The Service proposes a competitive process that affords federally-recognized tribes in all parts of the United States an opportunity to participate in the grant program.

2. Are State-Recognized Tribes or Petitioning Tribes Eligible To Receive Grants Under This Program?

No, only federally-recognized tribes are eligible to receive grants under this program. Federally-recognized tribes are listed in the Federal Register / Volume 67, Number 134 / July 12, 2002 / Notices.

3. Can Tribal Organizations or Other Non-Tribal Entities Receive Grants Under This Program?

No, however, the Service proposes that tribal organizations or other non-tribal entities that could not enter into grant agreements may do so as subgrantees or contractors to federally-recognized tribes. The Service is aware of various types of tribal organizations and other non-tribal entities and seeks public comments regarding their participation in T-LIP.

4. What Process Does the Service Propose To Use To Distribute T-LIP Funds?

The Service will request proposals through a Federal Register notice, direct contact, and other forms of outreach to eligible applicants. The Service's Regional Directors will receive all proposals.

5. Who Will Coordinate Regional Grant Application Submissions?

The Regional Native American Liaisons of the Service will coordinate the process to screen these proposals and rank them according to nationally uniform criteria.

6. How Will the Various Regional Grant Application Submissions Be Reviewed for National Funding?

A national panel will review Regionally-ranked proposals for recommendations to the Director of the Service (Director).

7. Who Will Be Empaneled To Serve as the National Review Panel?

The Regional Native American Liaisons of the Service will serve on the panel in addition to other Service and other Federal agency personnel, as appropriate and as may be identified by the Director.

8. Will Tribal Representatives Be Involved in Reviewing or Ranking Proposals?

No, only Federal employees will review and rank proposals in this initial year. However, the Service is interested in receiving comments from the public on ways to involve tribal representatives in this process in future years.

9. Who Will Make the Final Determination for Grant Approval?

The Director will make the final determination for grant approval.

B. Application Requirements

1. Is T-LIP Exempt From Federal Grant Program Compliance?

No, T-LIP is not exempt from any of the Federal grant program compliance requirements as specified in 43 CFR part 12, OMB Circulars A-102 and A-87, and Service Manual Chapters 552 FW1 and 523 FW1.

2. What Must Proposals Include for Participation in T-LIP?

Proposals must include a cover letter, program summary, program narrative, budget narrative, and tribal resolution of support as described herein.

—A cover letter briefly states the main features of the proposed program.

—A program summary describes, in one-half page, the type of activity that would take place if the Service funds the program.

—A program narrative clearly identifies the problems that the proposal will correct or help solve for the protection and management of habitat to benefit Federally listed, proposed, or candidate species, or other at-risk species on tribal lands, and the expected results or benefits. It must contain a needs assessment, objectives, time line, methodology, geographic location (with maps), monitoring plan, and identification of clear, obtainable and quantifiable goals and performance measures that will help achieve the management goals and objectives of the T-LIP and Service performance goals. The two relevant Service goals are the Sustainability of Fish and Wildlife Populations (Goal 1.2) and Habitat Conservation (Goal 2.3), which can be found in the Service's Long Term Strategic Plan for 2000 to 2005 at http://planning.fws.gov/USFWStrategicPlanv3.pdf. Related Service planning and results reports can be found at http://planning.fws.gov.

—A budget narrative clearly justifies all proposed costs and indicates that the grantee will provide adequate management systems for fiscal and contractual accountability, including annual monitoring and evaluation of progress toward desired project objectives, goals, and performance measures. It should include discussion of direct cost items such as salaries, equipment, consultant services, subcontracts and travel, as well as program matching or cost sharing information. Applicants may cover new project administrative costs, but they cannot include pre-existing administrative costs.

—A resolution of support from the appropriate tribal governing body states its support for the proposal.

3. Where Can Applicants Obtain a Grant Proposal Package?

Applicants can obtain a grant proposal package from the appropriate Regional Native American Liaison of the Service, as listed in Subpart IV of this document.

4. Are Matching Funds Required?

Yes, the Service proposes a minimum of 25 percent (%) non-Federal matching funds for participation in this program. This is the same matching contribution requirement States must make under the LIP.

5. Are In-Kind Contributions Eligible as Matching Funds?

In kind contributions may be counted towards the required 25% non-federal matching requirement. Any in-kind contributions in excess of the required 25 percent (%) may be used as a match to improve the potential ranking of a proposal. The federal government has defined “in-kind” as non-cash contributions made by the tribe. In-kind contributions must be necessary and reasonable for carrying out the project, and must represent the same value that the Service would have paid for similar services or property if purchased on the open market. Allowable in-kind contributions are defined in 43 CFR part 12.64. The following website provides additional information: http://training.fws.gov/fedaid/toolkit/inkind.pdf.

6. Can a Tribe Submit More Than One Grant Proposal?

Tribes are encouraged to submit a single comprehensive grant proposal. After all proposals have been ranked, the Service may allow tribes to submit additional proposals if all of the funding has not been obligated.

7. Is There a Maximum Level of Funding That Will Be Considered Under T-LIP?

The Service wants to encourage the maximum amount of participants in the T-LIP program. Therefore, the Service recommends a maximum of no more than 5 percent (%) of the total available funds should be awarded to any tribe. However, depending upon the number of proposals submitted and the relative merit of each proposal, some tribes may be awarded sums which would exceed this proposed 5 percent (%) funding level.

8. Is There a Minimum Level of Funding That Will Be Considered Under the T-LIP?

No, the Service recommends no minimum level of funding.

C. Ranking Criteria

What Ranking Criteria Is the Service Proposing To Use?

The Service has developed the following potential ranking criteria and weight factors for review and comment. The Service will be using these criteria in evaluating each proposal on a scale of zero (0) through one hundred (100) points.

Benefit of the Program: What are the probable significant benefits to fish and wildlife resources and their habitat if this program is successfully completed? (0-15 points)

Performance Measures: To what extent does the proposal provide obtainable and quantifiable performance measures and a means to monitor, evaluate, and report on these measures compared to an initial baseline? The measures should be specific, clear, and provide demonstrable benefits to the target species of the action. These actions should support the goals of the T-LIP and relevant Service performance goals. The two relevant Service goals are Sustainability of Fish and Wildlife Populations (Goal 1.2) and Habitat Conservation (Goal 2.3) which can be found at http://planning.fws.gov/USFWStrategicPlanv3.pdf. (0-15 points)

Work Plan: Are the program activities and objectives well-designed and achievable? (0-10 points)

Budget: Are all major budget items justified in relation to the program objectives and clearly explained in the narrative description? (0-15 points)

Capacity Building: To what extent does the program increase the grantee's capacity to provide for the protection, restoration and management of habitat to benefit Federally listed, proposed, or candidate species, or other at-risk species on tribal lands as stated in the appropriations language? (0-10 points)

Commitment: To what extent does the applicant display commitment to the program through in-kind contribution or matching funds? (0-10 points)

Partnerships: To what extent does the program incorporate contributions from other non-Federal partners in the form of either cash or in-kind services? (0-15 points)

Administrative Costs: What is the percentage (%) of program funds identified for use on actual projects as opposed to staff and related administrative costs? Ranking will be improved as the percentage of funds identified for staff and related administrative costs decrease. (0-10 points)

D. T-LIP Operations and Management

1. In the Course of Implementing a T-LIP Project Can Grantees Use T-LIP Funds To Cover Costs of Environmental Review, Habitat Evaluation, Permit Review (e.g., Section 404), and Other Environmental Compliance Activities Associated With a T-LIP Project or Program?

Yes, the T-LIP funds can cover these activities provided they are directly related to the T-LIP project or program being funded and are included in the budget and discussed in the program and budget narratives.

2. What Activities Are Eligible Under T-LIP?

Eligible programs include those that improve, preserve or maintain habitat for endangered, threatened, candidate or other at-risk species. Examples of the types of projects within identified tribal programs that the Service may fund include using prescribed burning to restore grasslands that support imperiled species, fencing to exclude animals from sensitive habitats, or planting native vegetation to restore degraded habitat.

3. Are There Any Specific Activities That Are Not Allowable Under the Guidance of T-LIP?

A proposal cannot include activities required to comply with a Biological Opinion or include activities required to comply with a permit (e.g., mitigation responsibilities). However, a proposal can include activities that implement conservation recommendations.

4. What Species Are Considered Endangered, Threatened, Candidate or At-Risk?

Those species federally listed as endangered or threatened under the Endangered Species Act of 1973, as amended, or species proposed or candidates for such listing, or at-risk species (e.g., species recognized as a species of conservation concern, such as species listed or identified by a State or a tribe).

5. Does the Term “Private Lands” in the Landowner Incentive Program Appropriation Language Exclude Tribal Trust Lands From Participation in T-LIP?

No, tribal trust lands are not “public lands.” For the purposes of inclusion under T-LIP, federally recognized tribes are considered landowners and are eligible.

6. Is the T-LIP Program a Continuous Revenue Source for Tribal Wildlife Programs?

No, there is no authorization for appropriation of funds beyond FY 2002. Funds appropriated in FY 2002 are available until spent.

7. Can the Grantee hold T-LIP Funds in an Interest-Bearing Account?

No, T-LIP grant funds may not be held in interest-bearing accounts.

E. Grant Award Procedures

1. What Additional Information Must Be Provided to the Service by the Grantees Once Awards Are Announced?

Once the Director notifies grantees that their proposal was selected for funding, the recipient must submit a Standard Form 424 (Application for Federal Assistance) along with a grant agreement and attachments as required by Federal regulations. As with our other Federal programs, T-LIP agreements must comply with 43 CFR part 12, the National Environmental Policy Act, Section 7 of the Endangered Species Act, the National Historic Preservation Act, and all other applicable Federal laws and regulations. This grant program is also subject to provisions of Office of Management and Budget Circulars No. A-87, A-102, and A-133 (http://www.whitehouse.gov/omb/circulars).

2. Once Ggrants Are Awarded, Who Should the Grantee Consider as the Lead Contact Person?

Once grants have been awarded, the grantee should consider the appropriate Regional Native American Liaison of the Service as the lead contact person for all matters pertaining to the particular award.

3. When Will the Service Award T-LIP Grants?

Once the Service has reviewed and ranked all eligible T-LIP grant proposals, the Director will make his final decision within 30 days of the recommendations of the national review panel.

4. How Will Funds Be Disbursed Once the Service Has Awarded T-LIP Grants?

Subsequent to funding approval, grant funds are electronically delivered to the Health and Human Services' SMARTLINK payment system. Through this electronic funds transfer (EFT) grantees will be able to receive their funds on a reimbursement basis. Some of the tribal grantees may not be EFT compliant. In order to insure optimal service to potential grantees within the current Federal Aid process, grantees will need to obtain EFT capabilities. Grantees may request an advance of no more than 25 percent (%) of the total grant. Such requests will be individually reviewed by the Service and honored if sufficient hardship or need is demonstrated that would preclude the success of the proposal if advance funds are not made available.

5. What Reporting Requirements Must Tribes Meet Once Funds Are Obligated Under a T-LIP Grant Agreement?

The Service requires an annual progress report and Financial Status Report (FSR) for grants longer than one year. A final performance report and FSR (SF-269) are due to the Regional Office within 90 days of the grant agreement ending date. In the annual progress report, the tribes must include a list of project accomplishments relative to those which were planned in the grant agreement. The effectiveness of each tribe's program, as reported in the annual progress reports, will be an important factor considered during the grant award selection process in subsequent years.

III. Procedural Requirements

A. Regulatory Planning and Review (Executive Order 12866)

This policy document identifies proposed eligibility criteria and selection factors that may be used to award grants under the T-LIP program. The Service developed this draft policy to ensure consistent and adequate evaluation of grant proposals that are voluntarily submitted and to help perspective applicants understand how the Service will award grants. According to Executive Order 12866, this policy document is significant and has been reviewed by the Office of Management and Budget (OMB) in accordance with the four criteria discussed below.

1. The T-LIP will not have an annual effect on the economy of $100 million or more or adversely affect in a material way the economy, a sector of the economy, productivity, jobs, the environment, public health or safety, or State or local communities. The Department of the Interior and Related Agencies Appropriations Act for Fiscal Year (FY) 2002 allowed the Secretary to create the T-LIP program. In addition, grants that are funded will generate other, secondary benefits, including benefits to natural systems (e.g., air, water) and local economies. All of these benefits are widely distributed and are not likely to be significant in any single location. It is likely that some residents where projects are initiated will experience some level of benefit, but quantifying these effects at this time is not possible. We do not expect the sum of all the benefits from this program, however, to have an annual effect on the economy of $100 million or more.

2. We do not believe the T-LIP would create inconsistencies with other agencies' actions. Congress has given the Service the responsibility to administer this program.

3. As a new grant program, the T-LIP would not materially alter the budgetary impact of entitlements, user fees, loan programs, or the rights and obligations of their recipients. This policy document establishes a new grant program that Public Law 107-63 authorizes, which should make greater resources available to applicants. The submission of grant proposals is completely voluntary, but necessary to receive benefits. When an applicant decides to submit a grant proposal, the proposed eligibility criteria and selection factors identified in this policy can be construed as requirements placed on the awarding of the grants. Additionally, we will place further requirements on grantees that are selected to receive funding under the T-LIP program in order to obtain and retain the benefit they are seeking. These requirements include specific Federal financial management and reporting requirements as well as specific habitat improvements or other management activities described in the applicant's grant proposal.

4. OMB has determined that this policy raises novel legal or policy issues, and, as a result, this document has undergone OMB review.

B. Regulatory Flexibility Act (5 U.S.C. 601 et seq.)

Under the Regulatory Flexibility Act, 5 U.S.C. 601 et seq., as amended, whenever an agency is required to publish a notice of rulemaking for any proposed or final rule, it must prepare and make available for public comment a regulatory flexibility analysis that describes the effects of the rule on small entities (e.g., small businesses, small organizations, and small government jurisdictions). Indian tribes are not considered to be small entities for purposes of the Act and, consequently, no regulatory flexibility analysis has been done.

C. Small Business Regulatory Enforcement Fairness Act (SBREFA) of 1996

This proposed implementation guidance is not considered a major rule under the Small Business Regulatory Enforcement Fairness Act (SBREFA) of 1996 (5 U.S.C. 804(2)) because it does not have an annual effect on the economy of $100 million or more. The yearly amount of T-LIP program funds is limited to $4 million.

This proposed implementation guidance will not cause a major increase in costs or prices for consumers, individual industries, Federal, state, or local government agencies, or geographic regions. Actions under this proposed implementation guidance will distribute Federal funds to Indian tribal governments and tribal entities for purposes consistent with activities akin to other Service programs designed to enable landowners to protect and conserve species as may be protected under the Endangered Species Act and the habitat that supports such species.

This proposed implementation guidance does not have significant adverse effects on competition, employment, investment, productivity, innovation, or the ability of U.S.-based enterprises to compete with foreign-based enterprises.

D. Unfunded Mandates Reform Act

This proposed implementation guidance would not impose unfunded mandates as defined by the Unfunded Mandates Reform Act of 1995 (Public Law 104-4, March 22, 1995, 109 Stat. 48). This proposed rule will not result in the expenditure by State, local and tribal governments, in the aggregate, or by the private sector, of $100 million or more in any one year (2 U.S.C. 1532).

E. Takings Implication Assessment (Executive Order 12630)

This proposed implementation guidance does not have significant “takings” implications. This proposed implementation guidance does not pertain to “taking” of private property interests, and its impact on private property would be an incentive that is totally landowner driven.

F. Executive Order 13211—Energy Effects

On May 18, 2001, the President issued Executive Order 13211 which speaks to regulations that significantly affect energy supply, distribution, and use. The Executive Order requires agencies to prepare Statements of Energy Effects when undertaking certain actions. This proposed implementation guidance is not expected to significantly affect energy supplies, distribution, or use. Therefore, no Statement of Energy Effects has been prepared.

G. Executive Order 12612—Federalism

This proposed implementation guidance does not have significant Federalism effects because it pertains solely to Federal-tribal relations and will not interfere with the roles, rights, and responsibilities of States.

H. Civil Justice Reform (Executive Order 12988)

This proposed implementation guidance does not unduly burden the judicial system and meets the applicable standards provided in sections 3(a) and 3(b)(2) of the Executive Order 12988.

I. National Environmental Policy Act (NEPA)

This proposed implementation guidance does not constitute a Federal action significantly affecting the quality of the human environment. The Service has determined that the issuance of the proposed implementation guidance is categorically excluded under the Department of the Interior's NEPA procedures in 516 DM 2, Appendix 1 and 516 DM 6, Appendix 1. The Service will ensure that grants funded through the T-LIP program are in compliance with NEPA.

J. Consultation and Coordination with Indian Tribal Governments (Executive Order 13175)

Pursuant to Executive Order 13175 of November 6, 2000, “Consultation and Coordination with Indian Tribal Governments,” we have committed to consulting with tribal representatives in the finalization of the implementation guidance for the T-LIP. We have evaluated any potential effects on federally-recognized Indian tribes and have determined that there are no potential adverse effects. This guidance expands tribal participation in Service programs and allows for opportunities for tribal wildlife management and conservation initiatives across Indian Country. We will continue to consult with tribal governments and tribal entities throughout the comment period, as a part of the rulemaking process, and beyond in furthering our mutual goals for the T-LIP.

K. Paperwork Reduction Act (44 U.S.C. 3501)

The information collection requirements of this program will be largely met through the Federal Aid Grants Application Booklet. Federal Aid has applied for OMB approval under Control Number 1018-1019. This approval applies to grants managed by the Division of Federal Aid, even if for other Divisions of the Service. We are collecting this information relevant to the eligibility, substantiality, relative value, and budget information from applicants in order to make awards of grants under these programs. We are collecting financial and performance information to track costs and accomplishments of these grant programs. Completion of these application and reporting requirements will involve a paperwork burden of approximately 80 hours per grant proposal. This does not include any burden hours previously approved by OMB for standard or Fish and Wildlife Service forms. Your response to this information collection is required to receive benefits in the form of a grant, and does not carry any premise of confidentiality. An agency may not conduct or sponsor, and a person is not required to respond to, a collection of information unless it displays a currently valid OMB control number. With respect to this 80 hour per application increase in burden hours, interested parties should contact the Information Collection Clearance Officer listed in the ADDRESSES section of this document.

IV. Native American Liaisons for the Fish and Wildlife Service

Regional correspondence and telephone contacts for the Service for this proposed implementation guidance and other appropriate purposes are as follows:

Region 1—Hawaii, Idaho, Oregon, Washington, Nevada, and California

Native American Liaison, U.S. Fish and Wildlife Service, 911 N.E. 11th Avenue, Portland, Oregon 97232-4181, T-LIP Contact: Scott Aiken (503) 231-6121

Region 2—Arizona, New Mexico, Oklahoma, and Texas

Native American Liaison, U.S. Fish and Wildlife Service, 500 Gold Avenue, SW., Albuquerque, New Mexico 87103, T-LIP Contact: John Antonio (505) 248-6810

Region 3—Illinois, Indiana, Iowa, Michigan, Minnesota, Missouri, Ohio, and Wisconsin

Native American Liaison, U.S. Fish and Wildlife Service, One Federal Drive, Fort Snelling, Minnesota, T-LIP Contact: John Leonard (612) 713-5108

Region 4—Alabama, Arkansas, Florida, Georgia, Kentucky, Louisiana, Mississippi, North Carolina, South Carolina, and Tennessee

Native American Liaison, U.S. Fish and Wildlife Service, 1875 Century Boulevard, Suite 410, Atlanta, Georgia 30345, T-LIP Contact: Jim Brown (404) 679-7125

Region 5—Connecticut, Delaware, District of Columbia, Maine, Maryland, Massachusetts, New Hampshire, New Jersey, New York, Pennsylvania, Rhode Island, Vermont, Virginia, and West Virginia

Native American Liaison, U.S. Fish and Wildlife Service, 300 Westgate Center Drive, Hadley, Massachusetts 01035-9589, T-LIP Contact: D.J. Monette (413) 253-8662 or (609) 646-9310

Region 6—Colorado, Kansas, Montana, Nebraska, North Dakota, South Dakota, Utah, and Wyoming

Native American Liaison, U.S. Fish and Wildlife Service, PO Box 25486—Denver Federal Center, Denver, Colorado 80225-0486, T-LIP Contact: David Redhorse (303) 236-7905 x253

Region 7—Alaska

Native American Liaison, U.S. Fish and Wildlife Service, 1011 East Tudor Road, Anchorage, Alaska 99503-6199, T-LIP Contact: Tony DeGange (907) 786-3492

Dated: October 1, 2002.
Paul Hoffman,
Acting Assistant Secretary, Fish and Wildlife and Parks.

[FR Doc. 02-32701 Filed 12-26-02; 8:45 am]

BILLING CODE 4310-55-P